DEPARTMENT OF ENERGY

Federal Energy Regulatory Commission

[Project No. 4113-067]

Oswego Hydro Partners, LP; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 4113-067.

c. Date Filed: February 27, 2024.

d. Applicant: Oswego Hydro Partners, LP.

e. Name of Project: Phoenix Hydroelectric Project.

f. Location: On the Oswego, Oneida, and Seneca Rivers in Onondaga and Oswego counties, New York.

g. Filed Pursuant to: Federal Power Act, 16 U.S.C. 791(a)-825(r).

h. Applicant Contact: Jody Smet, Vice President Regulatory Affairs, Eagle Creek Renewable Energy, LLC, 7315 Wisconsin Avenue, Suite 1100W, Bethesda, MD 20814; telephone at (240) 482-2700; email at Jody.smet@eaglecreekre.com.

i. FERC Contact: Joshua Dub, Project Coordinator, Great Lakes Branch, Division of Hydropower Licensing; telephone at (202) 502-8138; email at Joshua.Dub@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 27, 2024.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the project name and docket number on the first page: Phoenix Hydroelectric Project (P-4113-067).

m. The application is not ready for environmental analysis at this time.

n. Project Description: The Phoenix Project includes a concrete dam, known as the Phoenix Dam, that includes: (1) a 107-foot-long section with two 41.5-foot-long Tainter gates; (2) a 390-foot-long ogee spillway with 1-foot-high flashboards that have a crest elevation of 364.0 feet Barge Canal Datum (BCD); (3) a 206.1-foot-long section with a 32.4-foot-long Tainter gate and three 46.5-foot-long Tainter gates; (4) a 163-foot-long ogee spillway with 1-foot-high flashboards that have a crest elevation of 364.0 feet BCD; (5) a 44-foot-long section with a 10-foot-long debris sluice gate and a 7-foot-long timber sluice gate; and (6) an 80-foot-long, 45-foot-wide concrete and steel powerhouse that includes two 55-foot-long trashracks with 1-inch clear bar spacing, two intake openings, and two 1.590-megawatt (MW) vertical Kaplan turbine-generator units, for a total installed capacity of 3.180 MW.

The Phoenix Dam and a non-project lock, known as the Phoenix Lock, comprise Lock and Dam No. 1, which creates an impoundment that has a surface area of approximately 1,400 acres at an elevation of 364.0 BCD. From the impoundment, water flows through powerhouse and is discharged through draft tubes to an approximately 120-foot-long tailrace that discharges to the Oswego River.

The project generators are connected to the regional electric grid by: (1) a 90-foot-long, 4.16-kilovolt (kV) underground generator lead line; (2) a 4.16/34.5-kV step-up transformer located approximately 10 feet south of the powerhouse; and (3) a 230-foot-long, 34.5-kV underground transmission line that connects to a switchyard located approximately 150 feet northwest of the powerhouse.

The project includes an upstream American eel passage facility that consists of a trap and truck facility that consists of: (1) a 20-foot-long, 1.7-foot-wide metal and wood eel ramp; and (2) a 2.5-foot-wide, 2-foot-long plastic eel collection box located approximately 160 feet downstream of the project dam on the east shore of the Oswego River. The project also includes a downstream fishway that consists of the 7-foot-long sluice gate and a 7-foot-wide, 14-foot-long concrete plunge pool. Additionally, the project includes a 274.6-foot-long, 5.4-foot-wide aluminum walkway that provides access to the 206.1-foot-long section of the dam. There are no project recreation facilities.

The minimum and maximum hydraulic capacities of the powerhouse are 500 and 4,580 cubic feet per second (cfs), respectively. The average annual energy production of the Phoenix Project from 2016 through 2023 was 10,518 megawatt-hours.

The current license requires Oswego Hydro to minimize impoundment fluctuations by operating the project in a run-of-river mode, such that project outflow approximates inflow, and maintaining a maximum impoundment surface elevation of 364.0 feet BCD. Oswego Hydro currently maintains the surface elevation of the impoundment between 363.5 feet and 364.0 feet BCD, with a normal impoundment elevation of 363.8 feet BCD. The current license also requires Oswego Hydro to: (1) release a year-round minimum flow of 300 cfs or inflow, whichever is less, to the Oswego River downstream of the project, including flows over the spillway sections and/or through the Tainter gates; and (2) when inflow is less than 1,900 cfs from June 1 through October 31, implement water quality monitoring and, if average tailwater dissolved oxygen drops below 5 milligrams per liter, provide mitigative flow releases for the protection of downstream water quality.

Oswego Hydro proposes to continue operating the project in a manner that is consistent with current operation, except that Oswego Hydro does not propose to continue water quality monitoring and mitigative flow releases when inflow is less than 1,900 cfs from June 1 through October 31. In addition, Oswego Hydro proposes to develop a fish passage operation and maintenance plan, implement a draft Bat and Bald Eagle Protection Plan, and maintain an existing interpretative display and fencing for the protection of historic properties.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-4113). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

q. Procedural Schedule: The application will be processed according to the following preliminary schedule. Revisions to the schedule will be made as appropriate.

Issue Deficiency Letter and Request Additional Information April 2024

Issue Scoping Document 1 for comments July 2024

Request Additional Information (if necessary) August 2024

Issue Acceptance Letter August 2024

Issue Scoping Document 2 (if necessary) September 2024

Issue Notice of Ready for Environmental Analysis September 2024

r. Final amendments to the application must be filed with the Commission no later than 30 days from the issuance date of the notice of ready for environmental analysis.

Dated: March 8, 2024.
Debbie-Anne A. Reese,
Acting Secretary.

[FR Doc. 2024-05414 Filed 3-13-24; 8:45 am]

BILLING CODE 6717-01-P